DEPARTMENT OF THE TREASURY

Submission for OMB review; comment request

February 17, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before March 27, 2000 to be assured of consideration.

Bureau of Alcohol, Tobacco and Firearms (BATF)

OMB Number: 1512-0081.

Form Number: ATF F 5130.22 and ATF F 5130.23.

Type of Review: Extension.

Title: Brewer's Bond (F 5130.22); and Brewer's Bond Continuation Certificate (F 5130.23).

Description: The Brewer's Bond, ATF F 5130.22, is executed by a brewer and surety company to ensure payment of the excise tax on beer removed from the brewery. The Continuation Certificate, ATF F 5130.23, is executed by a brewer and surety company to continue in effect the coverage of a Brewer's Bond by the surety company.

Respondents: Business of other for-profit.

Estimated Number of Respondents: 280.

Estimated Burden Hours Per Respondent: 1 hour.

Frequency of Response: On occasion.

Estimated Total Reporting Burden: 280 hours.

OMB Number: 1512-0144.

Form Number: ATF F 2736 (5100.12) and ATF F 2737 (5100.67).

Type of Review: Extension.

Title: Specific Transportation Bond—Distilled Spirits or Wines Withdrawn for Transportation to Manufacturing Bonded Warehouse—Class Six (F 2736); and Continuing Transportation Bond—Distilled Spirits or Wines Withdrawn for Transportation to Manufacturing Bonded Warehouse—Class Six (F 2737)

Description: ATF F 2736 (5100.12) and ATF F 2737 (5100.67) are specific bonds which protect the tax liability on distilled spirits and wine while in transit from one type of bonded facility to another. They identify the shipment, the parties, the date and the amount of the bond coverage.

Respondents: Business or other for-profit.

Estimated Number of Respondents: 1.

Estimated Burden Hours Per Respondent: 1 hour.

Frequency of Response: On occasion.

Estimated Total Reporting Burden: 1 hour.

Clearance Officer: Robert N. Hogarth (202) 927-8930, Bureau of Alcohol, Tobacco and Firearms, Room 3200, 650 Massachusetts Avenue, N.W., Washington, DC 20226.

OMB Reviewer: Alexander T. Hunt (202) 395-7860, Office of Management and Budget, Room 10202, New Executive Office Building, Washington, DC 20503.

Lois K. Holland,
Departmental Reports Management Officer.

[FR Doc. 00-4413 Filed 2-24-00; 8:45 am]

BILLING CODE 4810-31-P